SECURITIES AND EXCHANGE COMMISSION

[Release No. 34-74628; File No. SR-Phlx-2015-32]

Self-Regulatory Organizations; NASDAQ OMX PHLX LLC; Notice of Filing and Immediate Effectiveness of Proposed Rule Change To Amend Rule 3301(h)

April 1, 2015.

Correction

In notice document 2015-07851, appearing on pages 18662—18664 in the issue of Tuesday, April 7, 2015, make the following correction:

On page 18664, in the second column, on the thirty-first line from the top, “May 7, 2015” is corrected to read “April 28, 2015.”

[FR Doc. C1-2015-07851 Filed 4-13-15; 8:45 am]

BILLING CODE 1505-01-D